DEPARTMENT OF LABOR

Veterans' Employment and Training Service

Notice of a Vacancy and Solicitation of Nominations for Appointment to the Advisory Committee on Veterans' Employment, Training, and Employer Outreach (ACVETEO)

AGENCY: Veterans' Employment and Training Service (VETS), Department of Labor (DOL).

ACTION: Notice.

SUMMARY: In accordance with section 4110 of Title 38, U.S. Code, and the provisions of the Federal Advisory Committee Act (FACA) and its implementing regulations issued by the U.S. General Services Administration (GSA), the Secretary of Labor (the Secretary), is soliciting nominations from the public to fill one vacancy from a veterans service organization that has a national employment program to be considered for appointment as a member of the Advisory Committee on Veterans' Employment, Training, and Employer Outreach (ACVETEO, or the Committee).

DATES: Nominations for membership on the Committee must be received no later than 11:59 p.m. EST on June 30, 2020. Packages received after this time will not be considered for the remainder of the current membership cycle ending January 31, 2022. The Committee looks to fill one vacancy as a result of this request. All nomination packages should be sent to the Designated Federal Official by email to green.gregory.b@dol.gov subject line “2020 ACVETEO VSO Nomination”. For more information, contact Gregory B. Green, Designated Federal Official, ACVETEO, U.S. Department of Labor, 200 Constitution Ave NW, Room S-1312, Washington, DC 20210; telephone (202) 693-4734. Additional information regarding the Committee, including its charter, current membership list, annual reports and meeting minutes, may be found at https://www.dol.gov/agencies/vets/about/advisorycommittee.

SUPPLEMENTARY INFORMATION: The term of membership for the appointed member will run through January 31, 2022. The Committee's responsibilities are to: (a) Assess employment and training needs of veterans and their integration into the workforce; (b) determine the extent to which the programs and activities of the Department are meeting such needs; (c) assist the Assistant Secretary for Veterans' Employment and Training (ASVET) in conducting outreach to employers with respect to the training and skills of veterans and the advantages afforded employers by hiring veterans; (d) make recommendations to the Secretary of Labor, through the ASVET, with respect to outreach activities and the employment and training needs of veterans; and (e) carry out such other activities deemed necessary to making required reports and recommendations under section 4110(f) of Title 38, U.S. Code.

DOL is soliciting nominations to fill one vacancy on the Committee. The Committee is currently composed of 15 members, in addition to ex-officio members. As required by statute, the members of the Committee are appointed by the Secretary from the general public. DOL seeks nominees with the following experience:

(1) Diversity in professional and personal qualifications;

(2) Experience in military service;

(3) Current work with veterans;

(4) Veterans disability subject matter expertise;

(5) Experience working in large and complex organizations;

(6) Experience in transition assistance;

(7) Experience in the protection of employment and reemployment rights;

(8) Experience in education, skills training, integration into the workforce and outreach;

(9) Understanding of licensing and credentialing issues; and/or

(10) Experience in military/veteran apprenticeship programs.

Requirements for Nomination Submission: Nominations should be formatted in Microsoft Word or PDF (one nomination per nominator). The nomination package should include:

(1) Letter of nomination that clearly states the name and affiliation of the nominee, the basis for the nomination (i.e., specific attributes, including military service, if applicable, that qualifies the nominee for service in this capacity)

(2) Statement from the nominee indicating willingness to regularly attend and participate in Committee meetings;

(3) Nominee's contact information, including name, mailing address, telephone number(s), and email address;

(4) Nominee's curriculum vitae or resume;

(5) Summary of the nominee's experience and qualifications relative to the experience listed above;

(6) Nominee biography;

(7) Statement that the nominee has no apparent conflicts of interest that would preclude membership.

(8) An affirmative statement that the nominee is not a federally registered lobbyist, and that the nominee understands that, if appointed, the nominee will not be allowed to continue to serve as an Advisory Committee member if the nominee becomes a federally registered lobbyist.

Individual selected for appointment to the Committee will be reimbursed for per diem and travel for attending Committee meetings. The Department makes every effort to ensure that the membership of its Federal advisory committees is fairly balanced in terms of points of view represented. Every effort is made to ensure that a broad representation of geographic areas, gender, racial and ethnic minority groups, and the disabled are given consideration for membership. Appointment to this Committee shall be made without discrimination because of a person's race, color, religion, sex (including gender identity, transgender status, sexual orientation, and pregnancy), national origin, age, disability, or genetic information. An ethics review is conducted for each selected nominee.

Signed at Washington, DC on May 6, 2020.
John Lowry,
Assistant Secretary for Veterans' Employment and Training Service.

[FR Doc. 2020-10079 Filed 5-11-20; 8:45 am]

BILLING CODE 4510-79-P